DEPARTMENT OF ENERGY

Federal Energy Regulatory Commission

[Project No 1121-135]

Pacific Gas and Electric Company; Notice of Waiver Period for Water Quality Certification Application

On February 2, 2023, Pacific Gas and Electric Company submitted to the Federal Energy Regulatory Commission (Commission) a copy of its application for a Clean Water Act section 401(a)(1) water quality certification filed with the California State Water Resources Control Board, in conjunction with the above captioned project. Pursuant to 40 CFR 121.6 and section 5.23(b) of the Commission's regulations,¹ we hereby notify the California State Water Resources Control Board of the following:

¹ 18 CFR 5.23(b) (2022).

Date of Receipt of the Certification Request: February 2, 2023.

Reasonable Period of Time to Act on the Certification Request: One year (February 2, 2024).

If the California State Water Resources Control Board fails or refuses to act on the water quality certification request on or before the above date, then the agency certifying authority is deemed waived pursuant to section 401(a)(1) of the Clean Water Act, 33 U.S.C. 1341(a)(1).

Dated: February 24, 2023.
Kimberly D. Bose,
Secretary.

[FR Doc. 2023-04312 Filed 3-1-23; 8:45 am]

BILLING CODE 6717-01-P